DEPARTMENT OF ENERGY

Federal Energy Regulatory Commission

Combined Notice of Filings #1

Take notice that the Commission received the following exempt wholesale generator filings:

Docket Numbers: EG21-51-000.

Applicants: Flat Ridge 2 Wind Energy LLC.

Description: Notice of Self-Certification of Exempt Wholesale Generator Status of Flat Ridge 2 Wind Energy LLC.

Filed Date: 12/10/20.

Accession Number: 20201210-5051.

Comments Due: 5 p.m. ET 12/31/20.

Take notice that the Commission received the following electric rate filings:

Docket Numbers: ER10-1907-019; ER10-1918-020; ER10-1930-013; ER10-1931-014; ER10-1932-015; ER10-1935-015; ER10-1950-020; ER10-1951-027; ER10-1962-015; ER10-1964-017; ER10-1966-014; ER10-1970-019; ER10-1972-019; ER10-1973-014; ER10-1974-025; ER10-1975-027; ER10-1976-013; ER10-2641-037; ER10-2720-023; ER11-2642-017; ER11-3635-014; ER11-4428-023; ER11-4462-048; ER11-4677-016; ER12-1228-023; ER12-1880-022; ER12-2225-013; ER12-2226-013; ER12-2444-015; ER12-895-021; ER13-2112-011; ER13-2147-002; ER14-1630-011; ER14-21-008; ER14-2138-010; ER14-2707-018; ER14-2710-018; ER15-1375-009; ER15-2101-009; ER15-2477-009; ER15-2601-007; ER15-2602-006; ER15-58-016; ER16-1354-009; ER16-1872-010; ER16-2241-011; ER16-2275-011; ER16-2276-011; ER16-2297-011; ER16-2443-006; ER16-2506-011; ER16-90-009; ER17-1774-005; ER17-2340-006; ER17-822-006; ER17-823-006; ER17-838-023; ER18-1535-006; ER18-1771-009; ER18-1952-009; ER18-2003-007; ER18-2182-007; ER18-2246-008; ER18-241-005; ER18-772-005; ER19-11-005; ER19-1392-005; ER19-2389-004; ER19-2398-004; ER20-1220-001; ER20-1879-001; ER20-1988-001; ER20-2012-002; ER20-2019-001; ER20-2064-001; ER20-2648-001; ER20-2690-001; ER20-2695-001; ER20-792-002.

Applicants: FPL Energy North Dakota Wind, LLC, FPL Energy North Dakota Wind II, LLC, FPL Energy South Dakota Wind, LLC, FPL Energy Stateline II, Inc., FPL Energy Vansycle, L.L.C., FPL Energy Wyman, LLC, FPL Energy Wyman IV, LLC, Frontier Utilities Northeast LLC, Garden Wind, LLC, Genesis Solar, LLC, Golden Hills Interconnection, LLC, Golden Hills North Wind, LLC, Golden Hills Wind, LLC, Golden West Power Partners, LLC, Gray County Wind, LLC, Grazing Yak Solar, LLC, Green Mountain Storage, LLC, Gulf Power Company, Hancock County Wind, LLC, Hatch Solar Energy Center I, LLC, Heartland Divide Wind Project, LLC, High Lonesome Mesa Wind, LLC, High Majestic Wind I, LLC, High Majestic Wind II, LLC, High Winds, LLC, Jordan Creek Wind Farm LLC, Kingman Wind Energy I, LLC, Kingman Wind Energy II, LLC, Lake Benton Power Partners II, LLC, Langdon Renewables, LLC, Limon Wind, LLC, Limon Wind II, LLC, Limon Wind III, LLC, Live Oak Solar, LLC, Logan Wind Energy LLC, Lorenzo Wind, LLC, Luz Solar Partners Ltd., III, Luz Solar Partners Ltd., IV, Luz Solar Partners Ltd., V, Mammoth Plains Wind Project, LLC, Mantua Creek Solar, LLC, Marshall Solar, LLC, McCoy Solar, LLC, Meyersdale Storage, LLC, Minco Wind, LLC, Minco Wind II, LLC, Minco Wind III, LLC, Minco IV & V Interconnection, LLC, Minco Wind Interconnection Services, LLC, Mohave County Wind Farm LLC, Montauk Energy Storage Center, LLC, Montauk Energy Storage Center, LLC, Mountain View Solar, LLC, NEPM II, LLC, New Mexico Wind, LLC, NextEra Blythe Solar Energy Center, LLC, NextEra Energy Bluff Point, LLC, NextEra Energy Duane Arnold, LLC, NextEra Energy Montezuma II Wind, LLC, NextEra Energy Point Beach, LLC, NextEra Energy Marketing, LLC, NextEra Energy Seabrook, LLC, NextEra Energy Services Massachusetts, LLC, Northeast Energy Associates, A Limited Partnership, Ninnescah Wind Energy, LLC, North Jersey Energy Associates, A Limited Partnership, North Sky River Energy, LLC, Northern Colorado Wind Energy, LLC, Northern Colorado Wind Energy Center II, LLC, Northern Divide Wind, LLC, Oleander Power Project, Limited Partnership, Oliver Wind I, LLC, Oliver Wind Energy Center II, LLC, Oliver Wind III, LLC, Oklahoma Wind, LLC, Orbit Bloom Energy, LLC, Osborn Wind Energy, LLC, Palo Duro Wind Energy, LLC, Palo Duro Wind Interconnection Services, LLC, Peetz Logan Interconnect, LLC.

Description: Notice of Change in Status of the NextEra MBR Sellers (Part 2), et al.

Filed Date: 12/7/20.

Accession Number: 20201207-5238.

Comments Due: 5 p.m. ET 12/28/20.

Docket Numbers: ER21-615-000.

Applicants: Midcontinent Independent System Operator, Inc.

Description: § 205(d) Rate Filing: 2020-12-10_SA 3588 NSP-Walleye Wind FSA (J569) to be effective 2/9/2021.

Filed Date: 12/10/20.

Accession Number: 20201210-5018.

Comments Due: 5 p.m. ET 12/31/20.

Docket Numbers: ER21-616-000.

Applicants: PJM Interconnection, L.L.C.

Description: Tariff Cancellation: Notice of Cancellation of Interconnection Coordination Agreement No. 4531 to be effective 5/23/2020.

Filed Date: 12/10/20.

Accession Number: 20201210-5073.

Comments Due: 5 p.m. ET 12/31/20.

Docket Numbers: ER21-617-000.

Applicants: San Diego Gas & Electric Company.

Description: § 205(d) Rate Filing: 2021 TACBAA Update to be effective 1/1/2021.

Filed Date: 12/10/20.

Accession Number: 20201210-5079.

Comments Due: 5 p.m. ET 12/31/20.

Docket Numbers: ER21-618-000.

Applicants: Southern California Edison Company.

Description: § 205(d) Rate Filing: DSA ENA BESS 1, LLC Inglewood Energy Storage SA No. 1125 WDT1602 to be effective 2/9/2021.

Filed Date: 12/10/20.

Accession Number: 20201210-5080.

Comments Due: 5 p.m. ET 12/31/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2020.
Kimberly D. Bose,
Secretary.

[FR Doc. 2020-27655 Filed 12-15-20; 8:45 am]

BILLING CODE 6717-01-P